DEPARTMENT OF VETERANS AFFAIRS

Reasonable Charges for Medical Care or Services

AGENCY: Department of Veterans Affairs.

ACTION: Notice.

SUMMARY: This document provides “reasonable charges” for medical care or services provided or furnished by VA to a veteran:

—For a nonservice-connected disability for which the veteran is entitled to care (or the payment of expenses of care) under a health plan contract;

—For a nonservice-connected disability incurred incident to the veteran's employment and covered under a worker's compensation law or plan that provides reimbursement or indemnification for such care and services; or

—For a nonservice-connected disability incurred as a result of a motor vehicle accident in a State that requires automobile accident reparations insurance.

FOR FURTHER INFORMATION CONTACT: David Cleaver, VHA Revenue Office (174), Veterans Health Administration, Department of Veterans Affairs, 810 Vermont Avenue, NW, Washington, DC 20420, (202) 273-8210. (This is not a toll free number.)

SUPPLEMENTARY INFORMATION: The “reasonable charges” regulations for medical care and services (38 CFR 17.101), as amended by a companion document published in this issue of the Federal Register, have established the methodology for inpatient facility charges at § 17.101(b), the methodology for skilled nursing facility/sub-acute inpatient facility charges at § 17.101(c), the methodology for outpatient facility charges at § 17.101(d), and the methodology for physician charges at § 17.101(e). Using these methodologies, information for calculating actual charge amounts at individual VA facilities is set forth below and is effective until changes by a Federal Register notice.

Approved: April 3, 2001.
Anthony J. Principi,
Secretary of Veterans Affairs.

BILLING CODE 8320-01-U

[FR Doc. 01-11027 Filed 5-7-01; 8:45 am]

BILLING CODE 8320-01-C